DEPARTMENT OF DEFENSE

Office of the Secretary

Federal Advisory Committee; Military Leadership Diversity Commission (MLDC)

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet May 24 through 26, 2010.

DATES: The meeting will be held: May 24, 2010—2 p.m. to 5:45 p.m.; May 25, 2010—8 a.m. to 4:45 p.m.; May 26, 2010—8 a.m. to 5:15 p.m.

ADDRESSES: The meeting will be held at the Hilton Seattle Airport and Conference Center, 17620 International Blvd., Seattle, WA 98188-4001.

FOR FURTHER INFORMATION CONTACT: Master Chief Steven A. Hady, Designated Federal Officer, MLDC, at (703) 602-0838, 1851 South Bell Street, Suite 532, Arlington, VA. E-mail: steven.hady@wso.whs.mil.

SUPPLEMENTARY INFORMATION:

Agenda

May 24, 2010

2 p.m.-5:45 p.m.

DFO opens meeting

Commission Chairman opening remarks

Dr. Martha Farnsworth Riche, former Director of the U.S. Bureau of the Census, briefs the MLDC on demographic trends

Open discussion on metrics

Open discussion on implementation and accountability

DFO adjourns the meeting

May 25, 2010

8 a.m.-12:15 p.m.

DFO opens the meeting

Commission Chairman opening remarks

Mr. Edmund D. Cooke, Jr. briefs the MLDC on legal issues related to diversity management

Mr. Mario L. Barnes briefs the MLDC on legal issues related to diversity management

Decision brief on legal implications

DFO recesses the meeting

1:45 p.m.-4:45 p.m.

DFO opens the meeting

Decision brief on outreach and recruiting

Open discussion on retention

Commission Chairman closing remarks

DFO adjourns the meeting

May 26, 2010

8 a.m.-11:45 a.m.

DFO opens the meeting

Commission Chairman opening remarks

Decision brief on promotion

Briefings from the Office of the Secretary of Defense (OSD) and Service representatives from organizations responsible for diversity leadership and training

11:45 a.m.

DFO recesses the meeting

1 p.m.-5:15 p.m.

DFO opens meeting

Briefings from OSD and Service representatives from organizations responsible for diversity leadership and training (continued)

Public comments

Commission Chairman closing remarks

DFO adjourns the meeting

Public's Accessibility to the Meeting

Pursuant to 5 U.S.C. 552b and 41 CFR 102-3.140 through 102-3.165, and the availability of space, the meetings on May 24 thru 26, 2010 will be open to the public. Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer at the address listed above at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: May 3, 2010.
Mitchell S. Bryman,
Alternate OSD Federal Register Liaison Officer, Department of Defense.

[FR Doc. 2010-10670 Filed 5-5-10; 8:45 am]

BILLING CODE 5001-06-P